DEPARTMENT OF COMMERCE

National Oceanic and Atmospheric Administration

[RTID 0648-XB673]

South Atlantic Fishery Management Council (Council); Public Meetings

AGENCY: National Marine Fisheries Service (NMFS), National Oceanic and Atmospheric Administration (NOAA), Commerce

ACTION: Notice of scoping meetings and open public comment.

SUMMARY: The South Atlantic Fishery Management Council (Council) will hold a series of scoping meetings via webinar pertaining to Amendments 51, 52, and 53 to the Fishery Management Plan (FMP) for the Snapper Grouper Fishery of the South Atlantic Region. The amendments adjust catch levels for snowy grouper, golden tilefish, and gag based on results of the latest stock assessments for those species, respectively, and consider adjusting management measures where needed. In addition, Amendment 52 considers changes to recreational accountability and management measures for blueline tilefish. The Council is also soliciting input on ways to reduce the number of released fish and improve the survival of released fish by the snapper grouper fishery in the South Atlantic region. The Council intends to develop a Release Mortality Reduction Framework Amendment to address this issue across the fishery and revise red snapper catch levels.

DATES: The scoping meetings for Amendments 51, 52, and 53 will be held via webinar on February 1, 2 and 3, 2022. Comments on approaches to curb release mortality are being solicited online only at this time to assist the Council in narrowing down options that can be explored further. Scoping hearings for the resulting amendment will be held later in 2022.

ADDRESSES: Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings for Amendments 51, 52, and 53 will be conducted via webinar. The scoping meetings will begin at 6 p.m. Registration for the webinars is required. Registration information, a summary of the issues to be scoped, an online public comment form and any additional information will be posted on the Council's website at https://safmc.net/safmc-meetings/public-hearings-scoping-meetings/ by January 18, 2022.

An online public comment form to gather input on approaches to reduce release mortality in the snapper grouper fishery will be posted on the Council's website at: https://safmc.net/safmc-meetings/public-hearings-scoping-meetings/. Public comments on all the topics must be received by 5 p.m. on February 4, 2022.

Amendment 51 to the Snapper Grouper FMP

The Council must adjust catch levels for snowy grouper in response to the most recent stock assessment for the species in the region conducted through the Southeast Data, Assessment, and Review (SEDAR) stock assessment process, SEDAR 36 Update (2020). The assessment indicated the stock continues to be overfished and is undergoing overfishing. A rebuilding plan is already in place for snowy grouper; however, catch levels must be adjusted based on the new acceptable biological catch recommended by the Council's Scientific and Statistical Committee (SSC). In addition, the Council is considering modifications to annual catch limits, sector allocations, accountability measures, and management measures.

Amendment 52 to the Snapper Grouper FMP

The stock of golden tilefish in the South Atlantic was most recently assessed through SEDAR 66 (2020), which indicated the stock is not overfished nor undergoing overfishing but is near the overfishing threshold. The Council must adjust catch levels based on the new recommended acceptable biological catch, review sector allocations, and consider whether other modifications to the management of golden tilefish are needed at this time. In the same amendment, the Council is also considering revising recreational management measures and accountability measures for blueline tilefish.

Amendment 53 to the Snapper Grouper FMP

Results of SEDAR 71 (2021) indicated the gag stock in the South Atlantic is overfished and undergoing overfishing. A rebuilding plan is being considered in this amendment to rebuild the stock and adjust fishing mortality to end overfishing. In addition to adjusting catch levels and sector allocations, the Council is exploring modifications to management measures and accountability measures. During the scoping meetings, Council staff will present an overview of the issues and will be available to answer questions via webinar. Members of the public will have an opportunity to go on record to provide their comments for consideration by the Council.

Special Accommodations

These meetings are physically accessible to people with disabilities. Requests for auxiliary aids should be directed to the Council office (see ADDRESSES) at least 5 days prior to the meeting.

Note: The times and sequence specified in this agenda are subject to change.

Authority: 16 U.S.C. 1801 et seq.

Dated: December 21, 2021.
Tracey L. Thompson,
Acting Deputy Director, Office of Sustainable Fisheries, National Marine Fisheries Service.

[FR Doc. 2021-28013 Filed 12-23-21; 8:45 am]

BILLING CODE 3510-22-P